DEPARTMENT OF COMMERCE

Foreign-Trade Zones Board

[B-41-2016]

Foreign-Trade Zone (FTZ) 249—Pensacola, Florida; Authorization of Production Activity; GE Renewables North America, LLC (Wind Turbine Nacelles and Hubs); Pensacola, Florida

On May 23, 2016, GE Renewables North America, LLC submitted a notification of proposed production activity to the Foreign-Trade Zones (FTZ) Board for its facility within Subzone 249A, in Pensacola, Florida.

The notification was processed in accordance with the regulations of the FTZ Board (15 CFR part 400), including notice in the Federal Register inviting public comment (81 FR 39626-39627, June 17, 2016). The FTZ Board has determined that no further review of the activity is warranted at this time. The production activity described in the notification is authorized, subject to the FTZ Act and the Board's regulations, including Section 400.14.

Dated: September 20, 2016.
Andrew McGilvray,
Executive Secretary.

[FR Doc. 2016-23009 Filed 9-22-16; 8:45 am]

BILLING CODE 3510-DS-P